ENVIRONMENTAL PROTECTION AGENCY

40 CFR Part 300

[EPA-HQ-SFUND-1987-0002; FRL-9177-1]

National Oil and Hazardous Substances Pollution Contingency Plan; National Priorities List: Partial Deletion of the Rocky Mountain Arsenal Federal Facility

AGENCY: Environmental Protection Agency.

ACTION: Proposed rule, reopening of public comment period.

SUMMARY: The Environmental Protection Agency (EPA) Region 8 issued a Notice of Intent to Delete portions of the Rocky Mountain Arsenal Federal Facility (RMA) from the National Priorities List (NPL) on June 17, 2010. The portions proposed for deletion are the Central and Eastern Surface Areas of the On-Post Operable Unit (OU3) including surface media and structures (CES) and the surface media of the entire Off-Post Operable Unit (OU4) (OPS). A formal request was made to extend the public comment period which is scheduled to end on July 19, 2010. In response, EPA is reopening the public comment period for an additional 30 days concluding on August 16, 2010.

The NPL, promulgated pursuant to section 105 of the Comprehensive Environmental Response, Compensation, and Liability Act (CERCLA) of 1980, as amended, is an appendix of the National Oil and Hazardous Substances Pollution Contingency Plan (NCP). The EPA and the State of Colorado, through the Colorado Department of Public Health and Environment (CDPHE), have determined that all appropriate response actions under CERCLA at the CES and OPS, other than operation, maintenance, and five-year reviews, have been completed.

This rationale for deleting the CES and OPS from RMA has not changed. The Federal Register notice for the proposed deletion (75 FR 34405) discusses this rationale in detail.

DATES: The comment period for the proposed rule published June 17, 2010, at 75 FR 34405, is reopened. Comments concerning the proposed partial deletion may be submitted to EPA on or before August 16, 2010.

ADDRESSES: Submit your comments, identified by Docket ID No. EPA-HQ-SFUND-1987-0002, by one of the following methods:

• http://www.regulations.gov: Follow the on-line instructions for submitting comments.

• E-mail: chergo.jennifer@epa.gov.

• Fax: 303-312-7110.

• Mail: Ms. Jennifer Chergo, Community Involvement Coordinator (8OC), U.S. EPA, Region 8, 1595 Wynkoop Street, Denver, Colorado 80202-1129.

• Hand Delivery: 1595 Wynkoop Street, Denver, Colorado 80202-1129. Such deliveries are only accepted during the Docket's normal hours of operation, and special arrangements should be made for deliveries of boxed information.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at:

—EPA's Region 8 Superfund Records Center, 1595 Wynkoop Street, Denver, Colorado 80202-2466. Hours: 8 a.m. to 4 p.m. by appointment (call 303-312-6473), Monday through Friday, excluding legal holidays; and the

—Joint Administrative Records Document Facility, Rocky Mountain Arsenal, 5650 Havana Street, Building 129, Commerce City, Colorado 80022-1748. Hours: 12 p.m. to 4 p.m., Monday through Friday, excluding legal holidays, or by appointment (call 303-289-0983).

FOR FURTHER INFORMATION CONTACT: Ms. Jennifer Chergo, Community Involvement Coordinator (8OC), U.S. Environmental Protection Agency, Region 8, 1595 Wynkoop Street, Denver, Colorado 80202-1129; telephone number: 1-800-227-8917 or 303-312-6601; fax number: 303-312-7110; e-mail address: chergo.jennifer@epa.gov.

Dated: July 13, 2010.
Stephen S. Tuber,
Acting Regional Administrator, Region 8.

[FR Doc. 2010-17714 Filed 7-20-10; 8:45 am]

BILLING CODE 6560-50-P